FEDERAL COMMUNICATIONS COMMISSION

47 CFR Part 73

[DA 05-1984; MM Docket No. 01-199, RM-10213; MB Docket No. 02-171, RM-10483; MB Docket No. 02-174, RM-10486; MB Docket No. 02-288, RM-10525; and MB Docket No. 04-170, RM-10766]

Radio Broadcasting Services; Gunnison, TX; Knox City, TX; Red Oak, OK; Rosebud, SD; and Tignall, GA

AGENCY: Federal Communications Commission.

ACTION: Final rule.

SUMMARY: The Audio Division, at the request of Jeraldine Anderson, allots Channel 291A at Knox City, Texas, as the community's second local FM transmission service. See 66 FR 46427, September 5, 2002. Channel 291A can be allotted to Knox City in compliance with the Commission's minimum distance separation requirements with a site restriction of 11.2 kilometers (7 miles) northwest to avoid a short-spacing to the license of Station KMOZ-FM, Channel 264C1, Grand Junction, Colorado. The coordinates for Channel 291A at Knox City are 33-25-55 North Latitude and 99-47-43 West Longitude. See SUPPLEMENTARY INFORMATION infra.

DATES: Effective August 29, 2005. A filing window for these allotments will not be opened at this time. Instead, the issue of opening these allotments for auction will be addressed by the Commission in a subsequent order.

FOR FURTHER INFORMATION CONTACT: Sharon P. McDonald, Media Bureau, (202) 418-2180.

SUPPLEMENTARY INFORMATION: This is a synopsis of the Commission's Report and Order, MM Docket No, 01-199, MB Docket Nos. 02-171, 02-174; 02-288; and 04-170, adopted July 13, 2005, and released July 15, 2005. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Commission will send a copy of this Report and Order in a report to be sent to Congress and the Government Accountability Office pursuant to the Congressional Review Act, see U.S.C. 801(a)(1)(A).

The Audio Division, at the request of Sierra Grande Broadcasting, allots Channel 265C2 at Gunnison, Colorado, as the community's four local FM transmission service. See 67 FR 47502, July 19, 2002. Channel 265C2 can be allotted to Gunnison in compliance with the Commission's minimum distance separation requirements with a site restriction of 11.2 kilometers (7 miles) northwest to avoid a short-spacing to the license of Station KMOZ-FM, Channel 264C1, Grand Junction, Colorado. The coordinates for Channel 265C2 at Gunnison are 38-37-00 North Latitude and 107-01-00 West Longitude.

The Audio Division, at the request of Maurice Salsa, allots Channel 227A at Red Oak, Oklahoma, as the community's first local aural transmission service. See 67 FR 47502, July 19, 2002. Channel 227AA can be allotted to Red Oak in compliance with the Commission's minimum distance separation requirements with a site restriction of. The coordinates for Channel 227A at Red Oak are 34-50-34 North Latitude and 95-07-42 West Longitude.

The Audio Division, at the request of Georgia-Carolina Radiocasting, Co., LLC, allots Channel 244A at Tignall, Georgia, as the community's first local aural transmission service. See 67 FR 63874, October 16, 2002. Channel 244A can be allotted to Tignall in compliance with the Commission's minimum distance separation requirements with a site restriction of 9.8 kilometers (6.1 miles) northwest to avoid a short-spacing to the licensed site of Station WAKB(FM), Channel 245C3, Wrens, Georgia. The coordinates for Channel 244A at Tignall are 33-55-40 North Latitude and 82-48-58 West Longitude.

The Audio Division, at the request of the Rosebud Sioux Tribe, allots Channel 257C at Rosebud, South Dakota, as the community's first local aural transmission service. See 69 FR 29253, May 21, 2004. Channel 257C can be allotted to Rosebud in compliance with the Commission's minimum distance separation requirements with a site restriction of 5.2 kilometers (3.2 miles) east of the community. The coordinates for Channel 257C at Rosebud are 43-13-01 North Latitude and 100-47-33 West Longitude.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Oklahoma, is amended by adding Channel 265C2 at Gunnison.

3. Section 73.202(b), the Table of FM Allotments under Georgia, is amended by adding Tignall, Channel 244A.

4. Section 73.202(b), the Table of FM Allotments under Oklahoma, is amended by adding Red Oak, Channel 227A.

5. Section 73.202(b), the Table of FM Allotments under South Dakota, is amended by adding Rosebud, Channel 257C.

6. Section 73.202(b), the Table of FM Allotments under Texas, is amended by adding Channel 291A at Knox City.

Federal Communications Commission.
John A. Karousos,
Assistant Chief, Audio Division, Media Bureau.

[FR Doc. 05-14964 Filed 8-2-05; 8:45 am]

BILLING CODE 6712-01-P